DEPARTMENT OF COMMERCE

National Oceanic and Atmospheric Administration

[I.D. 122004A]

Pacific Fishery Management Council; Coastal Pelagic Species Fishery Management Plan Work Sessions Focused on Pacific Sardine Allocation

.

AGENCY: National Marine Fisheries Service (NMFS), National Oceanic and Atmospheric Administration (NOAA), Commerce.

ACTION: Notice of public meeting.

SUMMARY: The Pacific Fishery Management Council's (Council) Coastal Pelagic Species Management Team (CPSMT) will hold a work session, which is open to the public.

DATES: The CPSMT will meet Tuesday, January 11, 2005, from 9 a.m. to 5 p.m. and Wednesday, January 12, 2005, from 9 a.m. until business for the day is completed.

ADDRESSES: The meetings will be held at National Marine Fisheries Service, Southwest Fisheries Science Center, Large Conference Room (D-203), 8604 La Jolla Shores Drive, La Jolla, California 92037, (858) 546-7000

Council address: Pacific Fishery Management Council, 7700 NE Ambassador Place, Suite 200, Portland, OR 97220-1384.

FOR FURTHER INFORMATION CONTACT: Mr. Mike Burner, Pacific Fishery Management Council, (503) 820-2280.

SUPPLEMENTARY INFORMATION: The CPSMT will meet to discuss analysis of alternative management measures for annual allocation of the Pacific sardine harvest guideline. This work will result in development of Amendment 11 to the Coastal Pelagic Species (CPS) Fishery Management Plan (FMP). The goal is for the Council to take final action on FMP Amendment 11 at the June 2005 Council meeting, with implementation by the National Marine Fisheries Service in time for the start of the January 2006 Pacific sardine season.

The main purpose of the meeting will be to initiate analysis of sardine allocation alternatives, including organization of analytical documents, drafting assignments, and schedule for completion of the documents. The CPSMT will also discuss initial preparations for development of the 2005 CPS Stock Assessment and Fishery Evaluation (SAFE) document.

At their November 2004 meeting, the Council adopted for analysis several alternatives for annual allocation of the Pacific sardine harvest guideline. The Council also adopted a series of program objectives that were recommended by the Council's Coastal Pelagic Species Advisory Subpanel. For the analysis, the Council gave specific direction to the CPSMT:

• Analyze each alternative in a consistent manner;

• Review differential impacts on northern and southern sectors for each alternative;

• Review effects of high and low catch years by sector for each alternative;

• Review resulting effects at various harvest guideline (HG) levels ranging from 25,000 mt- 200,000 mt (at appropriate intervals) for each alternative; and

• At the discretion of the CPSMT, combine aspects of the various alternatives to create new alternatives that meet program objectives.

Program objectives and specific alternatives adopted for analysis are available from the Council. See the Winter 2004 Edition of the Pacific Council News, on-line at: http://www.pcouncil.org/newsletters/2004/winter04.pdf. This information is also available upon request from Council staff, please contact Mr. Mike Burner.

Please note that this is a public meeting, and time for public comment will be provided at the discretion of the committee chairmen. Generally, a public comment period will be provided just prior to the end of each day's session. Please note, this is not a public hearing, rather this is a work session for the purpose of analyzing management alternatives for Pacific sardine allocation.

Although nonemergency issues not contained in the meeting agenda may come before the CPSMT for discussion, those issues may not be the subject of formal action during this meeting. Action will be restricted to those issues specifically listed in this document and any issues arising after publication of this document that require emergency action under Section 305(c) of the Magnuson-Stevens Fishery Conservation and Management Act, provided the public has been notified of the CPSMT's intent to take final action to address the emergency.

Special Accommodations

The meeting is physically accessible to people with disabilities. Requests for sign language interpretation or other auxiliary aids should be directed to Ms. Carolyn Porter at (503) 820-2280 at least 5 days prior to the meeting date.

Authority: 16 U.S.C. 1801 et seq.

Dated: December 20, 2004.
Alan D. Risenhoover,
Acting Director, Office of Sustainable Fisheries, National Marine Fisheries Service.

[FR Doc. E4-3781 Filed 12-22-04; 8:45 am]

BILLING CODE 3510-22-S